DEPARTMENT OF THE TREASURY

Senior Executive Service Departmental Offices Performance Review Board

AGENCY: Treasury Department.

ACTION: Notice of members of the Departmental Offices Performance Review Board (PRB).

SUMMARY: Pursuant to 5 U.S.C. 4314(c)(4), this notice announces the appointment of members of the Departmental Offices PRB. The purposes of this PRB is to review and make recommendations concerning proposed performance appraisals, ratings, bonuses and other appropriate personnel actions for incumbents of SES positions.

Composition of Departmental PRB: The Board shall consist of at least three members. In the case of an appraisal of a career appointee, more than half the members shall consist of career appointees. The names and titles of PRB members are as follows:

Tony Brown, Director, Community Development & Financial Institutions

Art Cameron, Deputy Assistant Secretary, Appropriations Management, Legislative Affairs

Marie E. Canales, Acting Deputy Assistant Secretary, Information Systems & CIO

J. Patrick Cave, Deputy Assistant Secretary, Financial Institutions & GSE Policy

Mary Chaves, Director, Office of International Trade

Richard Clarida, Assistant Secretary, Economic Policy

Marcia H. Coates, Director, Office of Equal Opportunity Program

Edward J. DeMarco, Director, Office of Government Sponsored Enterprises Policy

Kay Frances Dolan, Deputy Assistant Secretary (Human Resources)

John Duncan, Assistant Secretary, Legislative Affairs

Joseph Englehard, Deputy Assistant Secretary (Trade & Investment Policy)

James Fall, III, Deputy Assistant Secretary (Technical Assistance Policy)

Ronald A. Glaser, Director, Office of Personnel Policy

Donald Hammond, Fiscal Assistant Secretary

Barry K. Hudson, Director, Office of Financial Management

Roger E. Kodat, Deputy Assistant Secretary, Government Financial Policy

Donald W. Kiefer, Director, Office of Tax Analysis

Jeffrey Kupfer, Executive Secretary

Kenneth Lawson, Assistant Secretary, Enforcement

David Lebryk, Deputy Assistant Secretary (Fiscal Operations and Policy)

April Lehman, White House Liaison

Randal Quarles, Assistant Secretary, International Affairs

James R. Lingebach, Director, Office of Accounting and Internal Control

David Loevinger, Director, East Asian Nations

William C. Murden, Director, Office of International Banking and Securities Markets

Julie Myers, Deputy Assistant Secretary, Financial Crimes

Pamela Olson, Deputy Assistant Secretary, Tax Policy

Joel D. Platt, Director, Revenue Estimating

Steven C. Radelet, Deputy Assistant Secretary (Asia, the America and Africa)

Teresa Mullett Ressel, Deputy Assistant Secretary, Management & Budget

Corey Rindner, Director, Office of Procurement

Brian Roseboro, Assistant Secretary, Financial Markets

Gay H. Sills, Director, Office of International Investment

Kent Smetters, Deputy Assistant Secretary (Policy Coordination)

Mark D. Sobel, Deputy Assistant Secretary (International Money & Financial Policy)

Erin Solomon, Deputy Assistant Secretary (Regulatory Affairs)

Mark Warshawsky, Deputy Assistant Secretary (Microeconomic Analysis)

Willie E. Wright, Jr., Chief, Management & Administrative Programs

Juan Zarate, Deputy Assistant Secretary, Terrorism & Violent Crimes

DATES: Membership is effective on the date of this notice.

FOR FURTHER INFORMATION CONTACT: Barbara Borg, Department of the Treasury, Director, Office of Personnel Resources, Metropolitan Square Building, Room 6109, 15th and Pennsylvania Ave., NW., Washington, DC 20220, Telephone: (202) 622-2209.

This notice does not meet the Department's criteria for significant regulations.

Barbara Borg,
Director, Office of Personnel Resources.

[FR Doc. 02-19332 Filed 7-30-02; 8:45 am]

BILLING CODE 4811-20-M